DEPARTMENT OF AGRICULTURE

Grain Inspection, Packers and Stockyards Administration

9 CFR Part 201

RIN 0580-AB23

Suspension of Flock Delivery and Stages of Poultry Production

AGENCY: Grain Inspection, Packers and Stockyards Administration, USDA.

ACTION: Final rule.

SUMMARY: This final rule removes certain regulations promulgated under the Packers and Stockyards Act, 1921 (P&S Act). Under the authority granted to the Secretary of Agriculture (Secretary) and delegated to the Grain Inspection, Packers and Stockyards Administration (GIPSA), GIPSA is authorized to issue regulations necessary to carry out the provisions of the P&S Act. As directed by Congress in Section 731, Division A, of the Consolidated and Further Continuing Appropriations Act, 2015, GIPSA is rescinding certain regulations issued under the P&S Act. GIPSA is exercising the good cause exceptions provided by the Administrative Procedure Act to forgo notice-and-comment rulemaking and proceed directly to a final rule, because notice and comment rulemaking is impracticable and unnecessary since Congress has ordered the rescission of these specific sections.

DATES: Effective February 5, 2015.

FOR FURTHER INFORMATION CONTACT: S. Brett Offutt, Director, Litigation and Economic Analysis Division, P&SP, GIPSA, 1400 Independence Ave. SW., Washington, DC 20250-3646, (202) 720-7363, s.brett.offutt@usda.gov.

SUPPLEMENTARY INFORMATION: Section 731 of the Consolidated and Further Continuing Appropriations Act, 2015, Public Law 113-235, requires that: “the Secretary of Agriculture shall, within 60 days after the date of enactment of this Act, rescind sections 201.2(o), 201.3(a), and 201.215(a), of title 9 of the Code of Federal Regulations (as in effect on such date).” Since notice and comment is unnecessary and impracticable, GIPSA is exercising the good cause exceptions provided by the Administrative Procedure Act to forgo notice-and-comment rulemaking and proceed directly to a final rule to rescind sections 201.2(o), 201.215(a) and 201.3(a) from title 9 of the Code of Federal Regulations. As part of this final rule, we are also correcting the authority citation for Part 201.

List of Subjects in 9 CFR Part 201

Contracts, Poultry.

Accordingly, title 9 part 201 is amended as follows:

PART 201—REGULATIONS UNDER THE PACKERS AND STOCKYARDS ACT

1. The authority citation for part 201 is revised to read as follows:

Authority: 7 U.S.C. 181—229c.

§ 201.2 [Amended]

2. In § 201.2, remove paragraph (o).

§ 201.3 [Amended]

3. In § 201.3, remove paragraph (a) and remove the paragraph (b) designation and its subject heading..

§ 201.215 [Amended]

4. In § 201.215, remove paragraph (a) and redesignate paragraphs (b) and (c) as paragraphs (a) and (b), respectively.

Susan B. Keith,
Acting Administrator, Grain Inspection, Packers and Stockyards Administration.

[FR Doc. 2015-02142 Filed 2-4-15; 8:45 am]

BILLING CODE 3410-KD-P